DEPARTMENT OF COMMERCE

National Oceanic and Atmospheric Administration

[RTID 0648-XA874]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit (EFP) application contains all of the required information and warrants further consideration. The EFP would allow eight commercial fishing vessels to use fish pots to collect pre-construction data on the abundance, size structure, and distribution of scup and black sea bass in the South Fork Wind Farm (SFWF) work area and adjacent waters, under the direction of the Commercial Fisheries Research Foundation (CFRF). Regulations under the Magnuson-Stevens Fishery Conservation and Management Act require publication of this notification to provide interested parties the opportunity to comment on the proposed EFP.

DATES: Comments must be received on or before March 19, 2021.

ADDRESSES: You may submit written comments by any of the following methods:

• Email: nmfs.gar.efp@noaa.gov. Include in the subject line “CFRF South Fork Wind Farm Fish Pot EFP.”

FOR FURTHER INFORMATION CONTACT: Louis Forristall, Marine Resources Management Specialist, 978-281-9321, Louis.Forristall@noaa.gov.

SUPPLEMENTARY INFORMATION: The CFRF submitted a complete application for an EFP in support of its SFWF Fish Pot Survey on October 16, 2020. The proposed research would use scup traps in a Before-After-Control-Impact study design to collect pre-construction data on the abundance, size structure, and distribution of scup, black sea bass, and tautog in the SFWF area and adjacent waters.

This EFP would temporarily exempt 8 vessels (2 active, 6 reserve) during 14 2-day trips in statistical area 537 from: Possession limits and minimum size requirements specified in 50 CFR 648 subparts B and D through O for on-board sampling; trap escape vent and gear marking requirements in 50 CFR 648 subparts H and I, as well as § 697 subpart A; and trap limit requirements at § 697.19(b) to allow participating vessels to temporarily carry survey traps plus in addition to the vessel's allocated traps in Lobster Management Area 2.

The proposed research activity would sample 6 randomly selected locations in the SFWF work area located within NOAA Statistical Area 537. The proposed research would consist of 14 2-day survey trips that will take place over 2 seasonal periods: April 2021-October 2021 and April 2022-October 2022. Survey trips would take place each month over each of the 7-month seasonal periods. The first day would be used for setting pots and the second day for hauling pots and sampling catch.

On each survey trip, 25 pots will be set on 6 trawl lines (150 pots total) at randomly selected turbine locations at the SFWF. Each trawl line would soak for 24 hours. Between each survey within a season, pots will be left open underwater. Pots would be removed between each survey season.

The proposed research would use ventless scup traps that include an anti-ghost fish panel. The rigging lines will be 3/8 inch (.95 cm) pro flex sink and float rope attached to buoys. Buoy stick swivel ends and breakaway 600 pound (272 kg) swivel links would be used to reduce marine mammal entanglement.

During survey periods, the fishing vessel would redeploy the pot trawl at the sampling location. In between monthly survey trips, the pots will be un-baited and doors will be left open. On the first day of the next monthly survey, pots will be hauled, baited, and redeployed.

Estimated catch that would be expected under this EFP is shown below in Table 1. Survey catch estimates were derived from the Rhode Island Department of Management's ventless fish pot monitoring survey. The survey was conducted within Narraganset Bay, but used similar gear and fishing methods as the proposed activity.

Table 1—Estimated Catch per Survey Trip, and Total Estimated Catch
Species name/species group | Catch per area per trip | Estimated total survey catch
Scup | 248.0 lbs (112.5 kg) | 3,472.3 lbs (1575.0 kg).
Black Sea Bass | 115.7 lbs (52.5 kg) | 1,620.4 lbs (735.0 kg).
Tautog | 20.1 lbs (9.1 kg) | 324.1 lbs (147.0 kg).

If approved, CFRF may request minor modifications and extensions to the EFP throughout the study. EFP modifications and extensions may be granted without further notice if they are deemed essential to facilitate completion of the proposed research and have minimal impacts that do not change the scope or impact of the initially approved EFP request. Any fishing activity conducted outside the scope of the exempted fishing activity would be prohibited.

(Authority: 16 U.S.C. 1801 et seq.)

Dated: February 26, 2021,
Kelly Denit,
Director, Office of Sustainable Fisheries, National Marine Fisheries Service.

[FR Doc. 2021-04435 Filed 3-3-21; 8:45 am]

BILLING CODE 3510-22-P